DEPARTMENT OF VETERANS AFFAIRS

Research Advisory Committee on Gulf War Veterans' Illnesses, Notice of Meeting

The Department of Veterans Affairs (VA) gives notice under the Federal Advisory Committee Act, 5 U.S.C. app. 2, that the Research Advisory Committee on Gulf War Veterans' Illnesses will meet at the Department of Veterans Affairs, 810 Vermont Avenue NW, Washington, DC 20420 in Room 230. The meeting sessions will begin and end as follows:

Dates | Times
September 21, 2022 | 9:00 a.m. to 4:00 p.m. Eastern Standard Time (EST).
September 22, 2022 | 8:30 a.m. to 12:00 p.m. EST.

All sessions will be open to the public. For interested parties who cannot attend in person, this meeting will also be available by videoconference by connecting to Webex at the following URLs:

September 21, 2022 9:00 a.m. to 4:00 p.m. (ET): https://veteransaffairs.webex.com/veteransaffairs/j.php?MTID=m7441b2e0482296d1a2d611ed22560028 Or, Join by phone: 1-833-558-0712 Toll-free; Meeting number (access code): 2762 768 4678. Meeting password: 9v3PtpWi8t@

September 22, 2022, 8:30 a.m. to Noon (ET): https://veteransaffairs.webex.com/veteransaffairs/j.php?MTID=m8d7771d1c15919193c3087618ddfff8a Or, Join by phone: 1-833-558-0712 Toll-free; Meeting number (access code): 2761 228 0209. Meeting password: TtZUK3fa$68

The purpose of the Committee is to provide advice and make recommendations to the Secretary of Veterans Affairs on proposed research studies, research plans, and research strategies relating to the health consequences of military service in the Southwest Asia theater of operations during the Gulf War in 1990-91.

The Committee will review VA program activities related to Gulf War Veterans' illnesses and updates on relevant scientific research published since the last Committee meeting. This meeting will focus on 1990-91 military exposures, 4-year committee accomplishments and future directions.

The meeting will include time reserved for public comments 30 minutes before the meeting closes each day. Individuals who wish to address the Committee may submit a 1-2 page summary of their comments for inclusion in the official meeting record. Members of the public may submit written statements for the Committee's review or seek additional information by contacting Dr. Karen Block, Designated Federal Officer, at 202-443-5600, or at Karen.Block@va.gov.

Dated: August 25, 2022.
LaTonya L. Small,
Federal Advisory Committee Management Officer.

[FR Doc. 2022-18692 Filed 8-29-22; 8:45 am]

BILLING CODE P